DEPARTMENT OF TRANSPORTATION

Federal Aviation Administration

[Summary Notice No. 2018-21]

Petition for Exemption; Summary of Petition Received; Vieques Air Link, Inc.

AGENCY: Federal Aviation Administration (FAA), DOT.

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before April 20, 2018.

ADDRESSES: Send comments identified by docket number FAA-2018-0207 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Nia Daniels, (202) 267-7626, Office of Rulemaking, Federal Aviation Administration, 800 Independence Avenue SW, Washington, DC 20591.

This notice is published pursuant to 14 CFR 11.85.

Lirio Liu,
Executive Director, Office of Rulemaking.

Petition for Exemption

Docket No.: FAA-2018-0207.

Petitioner: Vieques Air Link, Inc.

Section of 14 CFR Affected: 135.243(a)(1).

Description of Relief Sought: Vieques Air Link, Inc. (VAL) requests relief from 14 CFR 135.243(a)(1). This section requires a pilot serving as a pilot in command of a part 135 commuter operation to hold an airline transport pilot certificate. The petitioner proposes to permit a VAL pilot in command to hold a commercial pilot certificate with multiengine airplane and instrument ratings, minimally have 750 hours of flight time, and 100 hours of cross country time of which 25 hours must be at night. The petitioner proposes to limit the scheduled flights to visual flight rules, scheduled duration of 30 minutes or less and less than 50 nautical miles. VAL operates a small regional airline providing transportation between Puerto Rico's contiguous islands of Vieques and Culebra and the main island of Puerto Rico for critical services with limited other transportation options.

[FR Doc. 2018-07300 Filed 4-9-18; 8:45 am]

BILLING CODE 4910-13-P